DEPARTMENT OF ENERGY

Federal Energy Regulatory Commission

[Docket No. TX23-1-000]

EnerSmart Mesa Heights BESS LLC; Notice of Filing

Take notice that on October 6, 2022, pursuant to section 211 of the Federal Power Act,¹ and Section 9.3.3 of the San Diego Gas & Electric Company (SDG&E) Transmission Owner Tariff (SDG&E TO Tariff), and Section 4 of the SDG&E Wholesale Distribution Open Access Tariff (SDG&E Tariffs), EnerSmart Mesa Heights BESS LLC (EnerSmart Mesa Heights) filed an application requesting that the Federal Energy Regulatory Commission (Commission) issue an order requiring SDG&E to provide interconnection and transmission service for the proposed Mesa Heights BESS battery energy storage facility under the terms and conditions of the Transmission Control Agreement between SDG&E and the California Independent System Operator Corporation (CAISO), the SDG&E Tariffs, CAISO's Fifth Replacement FERC Electric Tariff, and the Small Generator Interconnection Agreement between EnerSmart Mesa Heights and SDG&E, dated May 31, 2022, as it may be in effect from time to time.²

¹ 16 U.S.C. 824j (2018).

² The SGIA is associated with application number W162 for the 3 MW battery energy storage facility, interconnecting at a single point of interconnection, specified as an extension of Mesa Heights circuit 1286 from the nearby pole P95664. SGIA at Attachment 2.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

In addition to publishing the full text of this document in the Federal Register, the Commission provides all interested persons an opportunity to view and/or print the contents of this document via the internet through the Commission's Home Page (http://ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

The Commission strongly encourages electronic filings of comments, protests and interventions in lieu of paper using the “eFiling” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

Comment Date: 5:00 p.m. Eastern Time on November 7, 2022.

Dated: October 7, 2022.
Debbie-Anne A. Reese,
Deputy Secretary.

[FR Doc. 2022-22349 Filed 10-13-22; 8:45 am]

BILLING CODE 6717-01-P